DEPARTMENT OF AGRICULTURE

Forest Service

GMUG Resource Advisory Committee

AGENCY: Forest Service, USDA.

ACTION: Notice of meeting.

SUMMARY: The GMUG Resource Advisory Committee will meet in Delta, Colorado. The committee is authorized under the Secure Rural Schools and Community Self-Determination Act (Pub. L. 110-343) (the Act) and operates in compliance with the Federal Advisory Committee Act. The purpose of the committee is to improve collaborative relationships and to provide advice and recommendations to the Forest Service concerning projects and funding consistent with the title II of the Act. The meeting is open to the public. The purpose of the meeting is to gather the appointed committee members together to review and recommend projects for Title II funding within Garfield, Mesa, Delta, Gunnison and Montrose Counties, Colorado.

DATES: The meeting will be held Wednesday, September 19, 2012, at 1:00 p.m.

ADDRESSES: The meeting will be held at the Forest Supervisor's Office at 2250 Highway 50, Delta, Colorado in the North Spruce Conference Room. Written comments should be sent to Attn: GMUG RAC, 2250 Highway 50, Delta, CO 81416. Comments may also be sent via email to lloupe@fs.fed.us or via facsimile to Attn: Lee Ann Loupe, RAC Coordinator at 970-874-6698.

Written comments may be submitted as described under Supplementary Information. All comments, including names and addresses when provided, are placed in the record and are available for public inspection and copying. The public may inspect comments received at www.fido.gov/facadatabase under GMUG RAC information. Please call ahead to 970-874-6717 to facilitate entry into the building to view comments.

FOR FURTHER INFORMATION CONTACT: Lee Ann Loupe, RAC Coordinator, Grand Mesa, Uncompahgre & Gunnison National Forests, 970-874-6717 (phone), 970-874-6660 (TTY), lloupe@fs.fed.us.

Individuals who use telecommunication devices for the deaf (TDD) may call the Federal Information Relay Service (FIRS) at 1-800-877-8339 between 8:00 a.m. and 8:00 p.m., Eastern Standard Time, Monday through Friday. Please make requests in advance for sign language interpreting, assistive listening devices or other reasonable accomodation for access to the facility or proceedings by contacting the person listed For Further Information.

SUPPLEMENTARY INFORMATION: The meeting is open to the public. The following business will be conducted: The appointed Committee members will be updated on current projects that were recommended and approved by the RAC; review and discuss the projects that were submitted to the Committee by August 31; and make recommendations for funding/approval of those projects to utilize Title II funds within the appropriate counties. Full agenda can be previewed at: www.fido.gov/facadatabase. The agenda will include time for people to make oral statements of three minutes or less. Individuals wishing to make an oral statement should request in writing by September 5, 2012 to be scheduled on the agenda. Written comments and requests for time for oral comments must be sent to 2250 Highway 50, Delta, CO 81416 or by email to lloupe@fs.fed.us or via facsimile to Attn: Lee Ann Loupe 970-874-6698. A summary of the meeting will be posted at Federal Advisory Committee Web site at: www.fido.gov/facadatabase within 21 days of the meeting. If you require sign language interpreting, assistive listening devices or other reasonable accommodations for access to the meeting please request this in advance by contacting the person listed in the section titled For Further information Contact. All reasonable accommodation requests are managed on a case by case basis.

Dated: August 17, 2012.
Sherry Hazelhurst,
Deputy Forest Supervisor/GMUG RAC DFO.

[FR Doc. 2012-20730 Filed 8-22-12; 8:45 am]

BILLING CODE 3410-11-P